INTER-AMERICAN FOUNDATION

Sunshine Act Meeting

Agenda for Board of Directors' Meeting, November 30, 2004; 9:30 a.m.-1:30 p.m.

The meeting will be open except for the portion specified as a closed session as provided in 22 CFR 1004.4(f).

9:30 a.m.

Call to Order—Approval of the Minutes of the October 1, 2004 meeting

Executive Session (Closed session to discuss personnel issues, as provided in 22 CFR Part 1004.4(f)).

10:30 a.m.

President's Report

The IAF Strategic Plan

The IAF Corporate Outreach program

12 p.m.

Lunch

12:30 p.m.

Discussion on the Role of the Advisory Council

Relations with OMB and Congress

Other Business

1:30 p.m.

Adjournment

Carolyn Karr,
Senior Vice President and General Counsel.

[FR Doc. 04-25372 Filed 11-10-04; 10:47 am]

BILLING CODE 7025-01-M